DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772, dated October 14, 1980, and corrected at 45 FR 69296, October 20, 1980, as amended most recently at 80 FR 5874, dated September 29, 2015) is amended to reflect the reorganization of the Office for State, Tribal, Local and Territorial Support, Centers for Disease Control and Prevention.

Section C-B, Organization and Functions, is hereby amended as follows:

Revise the functional statement for the Office of the Director (CQA), as follows:

After item (22), insert the following item: (23) conducts periodic assessments of field staff and project officer needs; (24) assists in the coordination of CDC and OSTLTS Director site visits to State, Tribal, Local and Territorial agencies (STLT).

Delete in its entirety the title and mission for the Field Services Office (CQA4) and insert the following:

Public Health Associate Program Office (CQA4). (1) Provides cross-agency support for the monitoring and reporting of CDC field staff embedded within external public health agencies; and (2) manages the Public Health Associates Program and provides direct oversight and supervision for the Associates.

Revise the functional statement for the Office of the Director (CQB1), Division of Public Health Performance Improvement (CQB) as follows:

After item (4), insert the following item: (5) Conducts periodic assessments of field staff and project officer needs; (6) supports grants management optimization efforts to improve STLT health agencies; (7) provides agency-wide leadership and coordination in the identification, assessment, and development of solutions to improve CDC technical assistance and service delivery around Health Systems Transformation.

James Seligman,
Acting Chief Operating Officer, Centers for Disease Control and Prevention.

[FR Doc. 2015-29485 Filed 11-18-15; 8:45 am]

BILLING CODE 4160-18-P